DEPARTMENT OF COMMERCE

National Oceanic and Atmospheric Administration

RIN: 0648-XE46

North Pacific Fishery Management Council; Public Meeting

AGENCY: National Marine Fisheries Service (NMFS), National Oceanic and Atmospheric Administration (NOAA), Commerce.

ACTION: Notice of a public committee meeting.

SUMMARY: The North Pacific Fishery Management Council's (Council) Steller Sea Lion Mitigation Committee (SSLMC) will meet in Seattle, WA at the Nexus Hotel (January 6) and the Alaska Fishery Science Center (January 7 and 8).

DATES: The meetings will be held on January 6, 7, 8, 2008, from 8:30 a.m. to 5 p.m.

ADDRESSES: The meetings will be held at the Hotel Nexus, 2140 N Northgate Way, Seattle, WA and the Alaska Fishery Science Center, 7600 Sand Point Way NE, Bldg 4, Room 2076, Seattle, WA.

Council address: North Pacific Fishery Management Council, 605 W. 4th Ave., Suite 306, Anchorage, AK 99501-2252.

FOR FURTHER INFORMATION CONTACT: Bill Wilson, North Pacific Fishery Management Council; telephone: (907) 271-2809.

SUPPLEMENTARY INFORMATION: The SSLMC will review the action from the November 2007 Alaska Board of Fisheries meeting and discuss the schedule for SSSLMC work in 2008. The SSLMC will review goal and objective statements for proposals, and discuss the databases that have been assembled. Additional data needs will be identified. The SSLMC will begin proposal analysis, prioritization, and trade offs.

Special Accommodations

These meetings are physically accessible to people with disabilities. Requests for sign language interpretation or other auxiliary aids should be directed to Gail Bendixen, (907) 271-2809, at least 5 working days prior to the meeting date.

Dated: December 18, 2007.
Tracey L. Thompson,
Acting Director, Office of Sustainable Fisheries, National Marine Fisheries Service.

[FR Doc. E7-24815 Filed 12-20-07; 8:45 am]

BILLING CODE 3510-22-S